DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of July 17, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Russell County, Alabama and Incorporated Areas
Docket No.: FEMA-B-2319
Unincorporated Areas of Russell County | Russell County Highway Department, 97 Poorhouse Road, Seale, AL 36875.
Tallapoosa County, Alabama and Incorporated Areas
Docket No.: FEMA-B-2319
City of Tallassee | City Hall, 3 Freeman Avenue, Tallassee, AL 36078.
Unincorporated Areas of Tallapoosa County | Tallapoosa County Courthouse, 125 North Broadnax Street, Dadeville, AL 36853.
Woodbury County, Iowa and Incorporated Areas
Docket Nos.: FEMA-B-2145 and B-2313
City of Anthon | City Hall, 301 East Main Street, Anthon, Iowa 51004.
City of Bronson | City Hall, 100 East 1st Street, Bronson, Iowa 51007.
City of Correctionville | City Hall, 312 Driftwood Street, Correctionville, Iowa 51016.
City of Cushing | City Hall, 200 Main Street, Cushing, Iowa 51018.
City of Danbury | City Hall, 207 1st Street, Danbury, Iowa 51019.
City of Hornick | City Hall, 400 Main Street, Hornick, Iowa 51026.
City of Lawton | City Hall, 315 Ash Street, Lawton, Iowa 51030.
City of Moville | City Hall, 21 West Main Street, Moville, Iowa 51039.
City of Oto | City Hall, 27 Washington Street, Oto, Iowa 51044.
City of Pierson | City Hall, 201 Main Street, Pierson, Iowa 51048.
City of Salix | City Hall, 317 Tipton Street, Salix, Iowa 51052.
City of Sergeant Bluff | City Hall, 501 4th Street, Sergeant Bluff, Iowa 51054.
City of Sioux City | City Hall-Planning Division, 405 6th Street, Sioux City, Iowa 51102.
City of Sloan | City Hall, 428 Evans Street, Sloan, Iowa 51055.
City of Smithland | City Hall, 110 West Jackson Street, Smithland, Iowa 51056.
Unincorporated Areas of Woodbury County | Woodbury County Courthouse, Community and Economic Development, 620 Douglas Street, Sioux City, Iowa 51101.
Winnebago Tribe of Nebraska | Winnebago Tribe of Nebraska, Blackhawk Center-Administrative Offices, 100 Bluff Street, Winnebago, Nebraska 68071.
Marion County, Kansas and Incorporated Areas
Docket No.: FEMA-B-2329
City of Burns | City Hall, 102 North Washington Avenue, Burns, KS 66840.
City of Durham | Marion County Offices, 200 South 3rd Street, Marion, KS 66861.
City of Florence | City Hall, 511 North Main Street, Florence, KS 66851.
City of Goessel | City Hall, 101 South Cedar Street, Goessel, KS 67053.
City of Hillsboro | City Hall, 118 East Grand Avenue, Hillsboro, KS 67063.
City of Marion | City Office, 208 East Santa Fe Street, Marion, KS 66861.
City of Peabody | City Hall, 300 North Walnut Street, Peabody, KS 66866.
City of Ramona | City Hall, 302 D Street, Ramona, KS 67475.
City of Tampa | Marion County Offices, 200 South 3rd Street, Marion, KS 66861.
Unincorporated Areas of Marion County | Marion County Offices, 200 South 3rd Street, Marion, KS 66861.
York County, Maine (All Jurisdictions)
Docket No.: FEMA-B-1830 and FEMA-B-2271
City of Biddeford | City Hall, 205 Main Street, Biddeford, ME 04005.
City of Saco | City Hall, 300 Main Street, Saco, ME 04072.
City of Sanford | Code Enforcement Office, 919 Main Street, Suite 159, Sanford, ME 04073.
Town of Acton | Town Hall, 35 H Road, Acton, ME 04001.
Town of Alfred | Town Hall, Code Enforcement Office, 16 Saco Road, Alfred, ME 04002.
Town of Arundel | Town Office, 257 Limerick Road, Arundel, ME 04046.
Town of Berwick | Town Hall, 11 Sullivan Street, Berwick, ME 03901.
Town of Buxton | Town Hall, 185 Portland Road, Buxton, ME 04093.
Town of Cornish | Town Hall, 17 Maple Street, Cornish, ME 04020.
Town of Dayton | Town Hall, 33 Clarks Mills Road, Dayton, ME 04005.
Town of Eliot | Town Hall, 1333 State Road, Eliot, ME 03903.
Town of Hollis | Town Hall, 34 Town Farm Road, Hollis, ME 04042.
Town of Kennebunk | Town Hall, Community Development Office, 1 Summer Street, Kennebunk, ME 04043.
Town of Kennebunkport | Town Hall, 6 Elm Street, Kennebunkport, ME 04046.
Town of Kittery | Town Hall, 200 Rogers Road, Kittery, ME 03904.
Town of Lebanon | Town Hall, 15 Upper Guinea Road, Lebanon, ME 04027.
Town of Limerick | Municipal Building, Code Enforcement Office, 55 Washington Street, Limerick, ME 04048.
Town of Limington | Municipal Complex, 425 Sokokis Avenue, Limington, ME 04049.
Town of Lyman | Town Hall, Code Enforcement Office, 11 South Waterboro Road, Lyman, ME 04002.
Town of Newfield | Newfield Town Office, 637 Water Street, West Newfield, ME 04095.
Town of North Berwick | Town Hall, 21 Main Street, North Berwick, ME 03906.
Town of Ogunquit | Town Hall, 23 School Street, Ogunquit, ME 03907.
Town of Old Orchard Beach | Town Hall, 1 Portland Avenue, Old Orchard Beach, ME 04064.
Town of Parsonsfield | Town Hall, 634 North Road, Parsonsfield, ME 04047.
Town of Shapleigh | Town Hall, 22 Back Road, Shapleigh, ME 04076.
Town of South Berwick | Town Hall, 180 Main Street, South Berwick, ME 03908.
Town of Waterboro | Waterboro Town Hall, 24 Townhouse Road, East Waterboro, ME 04030.
Town of Wells | Town Hall, 208 Sanford Road, Wells, ME 04090.
Town of York | Town Hall, 186 York Street, York, ME 03909.
Le Sueur County, Minnesota and Incorporated Areas
Docket No.: FEMA-B-2297
City of Cleveland | City Hall, 205 4th Street, Cleveland, MN 56017.
City of Elysian | City Hall, 110 West Main Street, Elysian, MN 56028.
City of Heidelberg | Heidelberg City Hall, 31552 181st Avenue, New Prague, MN 56071.
City of Kasota | Community Center, 200 North Webster Street, Kasota, MN 56050.
City of Kilkenny | Fire Department, 156 South Laurel Avenue, Kilkenny, MN 56052.
City of Le Sueur | Municipal Building, 203 South 2nd Street, Le Sueur, MN 56058.
City of Montgomery | Municipal Building, 201 Ash Avenue SW, Montgomery, MN 56069.
City of New Prague | City Hall, Planning and Zoning Department, 118 Central Avenue North, New Prague, MN 56071.
City of Waterville | City Hall, 200 3rd Street South, Waterville, MN 56096.
Incorporated Areas of Le Sueur County | Le Sueur County Environmental Services Department, 88 South Park Avenue, Le Center, MN 56057.
Bradford County, Pennsylvania (All Jurisdictions)
Docket Nos.: FEMA-B-1918, B-2101 and B-2283
Borough of Athens | Municipal Building, 2 South River Street, Athens, PA 18810.
Borough of Sayre | Borough Office, 110 West Packer Avenue, Sayre, PA 18840.
Borough of South Waverly | Borough Hall, 2325 Pennsylvania Avenue, South Waverly, PA 18840.
Borough of Towanda | Municipal Building, 724 Main Street, Towanda, PA 18848.
Borough of Wyalusing | Borough Hall, 50 Senate Street, Wyalusing, PA 18853.
Township of Asylum | Asylum Township Building, 19981 Route 187, Towanda, PA 18848.
Township of Athens | Athens Township Municipal Building, 45 Herrick Avenue, Sayre, PA 18840.
Township of Burlington | Burlington Township Building, 2030 Weed Hill Road, Towanda, PA 18848.
Township of Litchfield | Litchfield Township Municipal Building, 1391 Hill Road, Sayre, PA 18840.
Township of North Towanda | North Towanda Township Office, 292 Old Mills Road, Towanda, PA 18848.
Township of Sheshequin | Sheshequin Township Office, 1774 North Middle Road, Ulster, PA 18850.
Township of Standing Stone | Standing Stone Township Building, 35165 Route 6, Wysox, PA 18854.
Township of Terry | Terry Township Building, 1876 Rienze Road, Wyalusing, PA 18853.
Township of Towanda | Township Office, 44 Chapel Street, Towanda, PA 18848.
Township of Tuscarora | Tuscarora Township Building, 2298 Underhill Road, Laceyville, PA 18623.
Township of Ulster | Municipal Building, 23849 Route 220, Ulster, PA 18850.
Township of Wilmot | Wilmot Township Municipal Building, 4861 Route 187, Sugar Run, PA 18846.
Township of Wyalusing | Township Hall, 41908 Route 6, Wyalusing, PA 18853.
Township of Wysox | Township Building, 103 Lake Road, Wysox, PA 18854.
Victoria County, Texas and Incorporated Areas
Docket No.: FEMA-B-2303
City of Victoria | 700 Main Center-Development and Permitting Center, 702 North Main Street, Suite 128, Victoria, TX 77901.
Unincorporated Areas of Victoria County | Victoria County, Dr. Pattie Dodson Public Health Center, 2805 North Navarro Street, Suite 106, Victoria, TX 77901.
Shawano County, Wisconsin and Incorporated Areas
Docket No.: FEMA-B-2271
City of Shawano | City Hall, 127 South Sawyer Street, Shawano, WI 54166.
Ho-Chunk Nation of Wisconsin | Tribal Office Building, W9814 Airport Road, Black River Falls, WI 54615.
Menominee Indian Tribe of Wisconsin | Tribal Office Building, W2908 Tribal Office Loop Road, Keshena, WI 54135.
Stockbridge Munsee Tribal Community | Tribal Office Building, N8476 MohHeConNuck Road, Bowler, WI 54416.
Unincorporated Areas of Shawano County | Shawano County Courthouse, 311 North Main Street, Shawano, WI 54166.
Village of Birnamwood | Village Hall, 362 Railroad Street, Birnamwood, WI 54414.
Village of Bonduel | Village Hall, 117 West Green Bay Street, Bonduel, WI 54107.
Village of Bowler | Village Hall, 107 West Main Street, Bowler, WI 54416.
Village of Cecil | Village Hall, 111 East Hofman Street, Cecil, WI 54111.
Village of Eland | Village Hall, W19141 Maple Street, Eland, WI 54427.
Village of Gresham | Village Hall, 1126 Main Street, Gresham, WI 54128.
Village of Mattoon | Village Hall, 310 Slate Avenue, Mattoon, WI 54450.
Village of Tigerton | Village Hall, 221 Birch Street, Tigerton, WI 54486.
Village of Wittenberg | Village Hall, 208 West Vinal Street, Wittenberg, WI 54499.

[FR Doc. 2024-06783 Filed 3-29-24; 8:45 am]

BILLING CODE 9110-12-P